DEPARTMENT OF THE TREASURY

Fiscal Service

Surety Companies Acceptable on Federal Bonds—Change in Business Address; American Economy Insurance Company, American States Insurance Company, SAFECO Insurance Company of Illinois

AGENCY: Financial Management Service, Fiscal Service, Department of the Treasury.

ACTION: Notice.

SUMMARY: This is Supplement No. 8 to the Treasury Department Circular 570, 2010 Revision, published July 1, 2010, at 75 FR 38192.

FOR FURTHER INFORMATION CONTACT: Surety Bond Branch at (202) 874-6850.

SUPPLEMENTARY INFORMATION: Notice is hereby given by the Treasury that the above-named companies formally changed their “Business Address” as follows:

American Economy Insurance Company (NAIC #19690). Business Address: 350 E. 96th Street, Indianapolis, IN 46240.

American States Insurance Company (NAIC #19704). Business Address: 350 E. 96th Street, Indianapolis, IN 46240.

SAFECO Insurance Company of Illinois (NAIC #39012). Business Address: 27201 Bella Vista Parkway, Suite 130, Warrenville, IL 60555.

Federal bond-approving officers should annotate their reference copies of the Treasury Circular 570 (“Circular”), 2010 Revision, to reflect these changes.

The Circular may be viewed and downloaded through the Internet at http://www.fms.treas.gov/c570.

Questions concerning this Notice may be directed to the U.S. Department of the Treasury, Financial Management Service, Financial Accounting and Services Division, Surety Bond Branch, 3700 East-West Highway, Room 6F01, Hyattsville, MD 20782.

Dated: March 11, 2011.
Laura Carrico,
Director, Financial Accounting and Services Division.

[FR Doc. 2011-9636 Filed 4-20-11; 8:45 am]

BILLING CODE 4810-35-M